ENVIRONMENTAL PROTECTION AGENCY

40 CFR Part 52

[EPA-R05-OAR-2013-0021 and EPA-R05-OAR-2013-0022: FRL-9812-4]

Approval and Promulgation of Air Quality Implementation Plans; Indiana; Lake and Porter Counties, Indiana, 1997 8-Hour Ozone Maintenance Plan and 1997 Annual Fine Particulate Matter Maintenance Plan Revision to Approved Motor Vehicle Emissions Budgets

AGENCY: Environmental Protection Agency (EPA).

ACTION: Direct final rule.

SUMMARY: EPA is approving Indiana's request to revise the Lake and Porter Counties State Implementation Plans (SIPs) for the 1997 8-hour ozone standard, and the 1997 annual fine particulate matter (PM2.5) standard to replace the previously approved motor vehicle emissions budgets (budgets) with budgets developed using EPA's Motor Vehicle Emissions Simulator (MOVES) 2010a emissions model. The Indiana Department of Environmental Management (IDEM) submitted these requests to EPA with submittal letters dated February 1, 2013.

DATES: This direct final rule will be effective July 15, 2013, unless EPA receives adverse comments by June 14, 2013. If adverse comments are received, EPA will publish a timely withdrawal of the direct final rule in the Federal Register informing the public that the rule will not take effect.

ADDRESSES: Submit your comments, identified by Docket ID No. EPA-R05-OAR-2013-0021 and EPA-R05-OAR-0022, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2013-0021 for ozone or EPA-R05-OAR-0022 for PM2.5. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta, Environmental Protection Specialist, at (312) 353-8777 before visiting the Region 5 office.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: Throughout this document whenever “we,” “us,” or “our” is used, we mean EPA. This supplementary information section is arranged as follows:

I. What is EPA approving?

II. What is the background for this action?

a. SIP Budgets and Transportation Conformity

b. Prior Approval of Budgets

c. The MOVES Emissions Model

d. Submission of New Budgets Based on MOVES2010a

III. What are the criteria for approval?

IV. What is EPA's analysis of the State's submittal?

a. The Revised Inventories

b. Approvability of the MOVES2010a-Based Budgets

c. Applicability of MOBILE6.2-Based Budgets

V. What action is EPA taking?

VI. Statutory and Executive Order Reviews

I. What is EPA approving?

EPA is approving new MOVES2010a-based budgets for the Lake and Porter County, Indiana 1997 8-hour ozone maintenance area and the 1997 annual PM2.5 maintenance area that will replace MOBILE-based budgets in the SIP. The Lake and Porter County, Indiana area was redesignated to attainment of the 1997 8-hour ozone standard effective May 11, 2010 (75 FR 26113). The Lake and Porter County, Indiana area was redesignated to attainment of the 1997 annual PM2.5 standard effective February 6, 2012 (76 FR 76302). MOBILE6.2-based budgets were approved in those actions. Upon the effective date of approval of the MOVES-based budgets, they must then be used in future transportation conformity analyses for the area as required by section 176(c) of the CAA. See the official release of the MOVES2010 emissions model (75 FR 9411-9414) for background and section II.(c) below for details.

II. What is the Background for this action?

a. SIP Budgets and Transportation Conformity

Under the CAA, states are required to submit, at various times, control strategy SIP revisions and maintenance plans for nonattainment and maintenance areas for a given National Ambient Air Quality Standard (NAAQS). These SIP revisions and maintenance plans include budgets of on-road mobile source emissions for criteria pollutants and/or their precursors. Transportation plans and projects “conform” to (i.e., are consistent with) the SIP when they will not cause or contribute to air quality violations, delay timely attainment of the NAAQS, or delay an interim milestone.

b. Prior Approval of Budgets

EPA previously approved MOBILE6.2-based volatile organic compounds (VOC) and nitrogen oxides (NOX) budgets for the Lake and Porter County 8-hour ozone maintenance area, as well as NOX and direct PM budgets for the Lake and Porter County 1997 annual PM2.5 nonattainment area. The ozone maintenance plan established 2010 and 2020 budgets for the area that demonstrated a reduction in emissions from the monitored attainment year and included a margin of safety. The PM2.5 maintenance plan established budgets for 2025 for the area.

c. The MOVES Emissions Model

The MOVES model is EPA's state-of-the-art tool for estimating highway emissions. EPA announced the release of MOVES2010 in March 2010 (75 FR 9411). Use of the MOVES model is required for regional emissions analyses for transportation conformity determinations outside of California that begin after March 2, 2013.

MOVES2010a was used to estimate emissions in the same milestone years as the original budgets in the SIP. IDEM is revising the budgets using the latest planning assumptions including population and employment updates. In addition, newer vehicle registration data has been used to update the age distribution of the vehicle fleet. Updating the budgets with MOVES2010a allows the area to continue to show conformity to the SIP in plans, transportation improvement programs, and projects. The interagency consultation group has had extensive consultation on the requirements and need for new budgets.

d. Submission of New Budgets Based on MOVES2010a

On February 1, 2013, IDEM submitted replacement budgets based on MOVES2010a for the Lake and Porter County area. IDEM provided public review and comment for these budgets, which ended on January 25, 2013. There were no comments.

IDEM has also provided total emissions, including mobile emissions based on MOVES2010a, for the attainment year of 2006, the interim year 2010 and the 2020 maintenance year (as shown in table 1). The combined emissions reduction for each pollutant is the reduction in emissions from the base year (in this case the 2006 attainment year) to the final year of the maintenance plan (in this case the 2020 year). The total emissions include point, area, non-road and on-road mobile sources.

Table 1—Ozone—Total Emissions With MOVES2010a Mobile Emissions
[Tons per day]
Year | 2006 | 2010 | 2020 | Combined emissions reduction (2006-2020)
VOC | 85.90 | 75.08 | 69.70 | 16.20
NOX | 213.41 | 192.84 | 159.58 | 53.83

IDEM has added only a small portion of the combined emissions reduction available for use in NOX and VOC budgets for 2010 and 2020. As shown in table 1, the submittal demonstrates that the area's emissions decline from the attainment year of 2006 to maintain the 1997 8-hour ozone standard.

No additional control measures were needed to maintain the 1997 ozone standard in the Lake and Porter County area. An appropriate safety margin for NOX and VOCs was selected by the interagency consultation group, which consists of representatives from the Federal Highway Administration, the Indiana Department of Transportation, IDEM, and EPA. The on-road MOVES2010a based budgets for ozone are listed in table 2.

Table 2—Ozone—Motor Vehicle Emission Budgets (MOVES) for the Lake and Porter County, Indiana, Area in Tons per Day
Year | 2010 | 2020
VOC | 13.99 | 5.99
NOX | 47.26 | 16.69

IDEM has also provided total emissions, including mobile emissions based on MOVES2010a, for the attainment year of 2008, the interim year 2015 and the 2025 maintenance year, as shown in table 3.

Table 3—Fine Particulate Matter—Total Emissions With MOVES2010a Mobile Emissions
[Tons per year]
Year | 2008 | 2015 | 2020 | 2025 | Combined emissions reduction (2008-2025)
PM2.5 | 9,052.67 | 7,246.52 | 7,074.03 | 6,810.83 | 2241.84
NOX | 64,053.36 | 45,189.97 | 42,528.83 | 37,237.39 | 26,815.97

Indiana has added only a small portion of the combined emissions reduction available for use in NOX and PM2.5 budgets for 2015 and 2025. As shown in table 3, the reduction in emissions between 2008 and 2025 demonstrates that the area will continue to maintain the 1997 annual PM2.5 standard.

No additional control measures were needed to maintain the 1997 annual PM2.5 standard in the Lake and Porter County area. An appropriate safety margin for NOX and PM2.5 was decided by the interagency consultation group. The on-road MOVES2010a based budgets are shown in table 4.

Table 4—PM2.5—Motor Vehicle Emission Budgets (MOVES) for Lake and Porter County, Indiana in Tons per Year
Year | 2015 | 2025
PM2.5 | 374.30 | 188.73
NOX | 10,486.08 | 5,472.34

III. What are the Criteria for approval?

EPA requires that revisions to existing SIPs and budgets continue to meet applicable requirements (e.g., RFP, attainment, or maintenance). The SIP must also meet any applicable SIP requirements under CAA section 110. In addition, adequacy criteria found at 40 CFR 93.118(e)(4) must be satisfied before EPA can find submitted budgets adequate and approve them for conformity purposes.

Areas can revise their budgets and inventories using MOVES without revising their entire SIP if: (1) The SIP continues to meet applicable requirements when the previous motor vehicle emissions inventories are replaced with MOVES base year and milestone, attainment, or maintenance year inventories; and (2) the state can document that growth and control strategy assumptions for non-motor vehicle sources continue to be valid and any minor updates do not change the overall conclusions underlying the SIP. The Indiana submittals meet this requirement as described below in the next section.

For more information, see EPA's latest “Policy Guidance on the Use of MOVES2010 for SIP Development, Transportation Conformity, and Other Purposes” (April 2012), available online at: www.epa.gov/otaq/stateresources/transconf/policy.htm#models.

IV. What Is EPA's analysis of the State's submittal?

a. The Revised Inventories

The February 1, 2013, SIP revision requests for the Lake and Porter County 1997 ozone maintenance area and the 1997 annual PM2.5 area seek to revise only the on-road mobile source inventories. IDEM has certified that the control strategies remain the same as in the original SIP, and that no other control strategies are necessary. IDEM also finds that growth and control strategy assumptions for sources other than on-road have not changed significantly from the original submittal. This is confirmed by the monitoring data for the Lake and Porter County area, which continues to monitor attainment for the 1997 8-hour ozone standard and the 1997 annual PM2.5 standard.

b. Approvability of the MOVES2010a-Based Budgets

EPA evaluated the MOVES-based budgets submitted on February 1, 2013, using the adequacy criteria found in 40 CFR 93.118(e)(4) and our in-depth evaluation of the state's submittal and SIP requirements. Before submitting the revised budgets, Indiana followed all necessary conformity procedures. The budgets are clearly identified and precisely quantified in the submittal. The budgets, when considered with other emissions sources, are consistent with continued maintenance of the 1997 ozone standard. The budgets are clearly related to the emissions inventory and control measures in the SIP. The changes from the previous budgets are clearly explained with the change in the model from MOBILE6.2 to MOVES2010a and the revised and updated planning assumptions. The inputs to the model are detailed in the Appendix to the submittal. EPA has reviewed the inputs to the MOVES2010a modeling and participated in the consultation process. The Federal Highway Administration—Indiana Division and the Indiana Department of Transportation have taken a lead role in working with the Northwestern Indiana Regional Planning Commission to provide accurate, timely information and inputs to the MOVES2010a model runs. The state has documented that growth and control strategy assumptions for non-motor vehicle sources (i.e. area, non-road, and point) continue to be valid and any minor updates do not change the overall conclusions of the SIP.

IDEM's submission confirms that the SIP continues to demonstrate maintenance of the 1997 ozone standard and annual PM2.5 standard because the total emissions in the revised SIP (including MOVES2010a emissions for mobile sources) decrease from the attainment year to the last year of the maintenance plan, as shown in tables 1 and 3. The budgets include an appropriate margin of safety while still maintaining total emissions below the attainment level.

Based on our review of the February 1, 2013, submittal, EPA has determined that the SIP will continue to meet its requirements if the revised motor vehicle emissions inventories are replaced with MOVES2010a inventories.

c. Applicability of MOBILE6.2-Based Budgets

When we finalize the approval of the revised budgets, the state's existing MOBILE6.2-based budgets will no longer be applicable for transportation conformity purposes.

V. What action is EPA taking?

EPA is approving MOVES2010a-based budgets for the Lake and Porter County, Indiana 1997 8-hour ozone maintenance area and 1997 annual PM2.5 maintenance area as submitted on February 1, 2013. We are publishing this action without prior proposal because we view this as a noncontroversial amendment and anticipate no adverse comments. However, in the proposed rules section of this Federal Register publication, we are publishing a separate document that will serve as the proposal to approve the state plan if relevant adverse written comments are filed. This rule will be effective July 15, 2013 without further notice unless we receive relevant adverse written comments by June 14, 2013. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective July 15, 2013.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 15, 2013. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Nitrogen dioxide, Ozone, Reporting and recordkeeping requirements, Volatile organic compounds.

Dated: April 30, 2013.
Susan Hedman,
Regional Administrator, Region 5.

40 CFR part 52 is amended as follows:

PART 52—[AMENDED]

1. The authority citation for part 52 continues to read as follows:

Authority: 42 U.S.C. 7401 et seq.

2. The table in § 52.770 paragraph (e) is amended by adding entries in alphabetical order for “Lake and Porter Counties 1997 8-hour ozone maintenance plan” and “Lake and Porter Counties 1997 annual PM2.5 maintenance plan” to read as follows:

§ 52.770 Identification of plan.

* * * * *

(e) * * *

EPA-Approved Indiana Nonregulatory and Quasi-Regulatory Provisions
Title | Indiana date | EPA approval | Explanation
* * * * * * *
Lake and Porter Counties 1997 8-hour ozone maintenance plan | February 1, 2013 | May 15, 2013, [INSERT PAGE NUMBER WHERE THE DOCUMENT BEGINS] | Revision to motor vehicle emission budgets.
Lake and Porter Counties 1997 annual PM2.5 maintenance plan | February 1, 2013 | May 15, 2013, [INSERT PAGE NUMBER WHERE THE DOCUMENT BEGINS] | Revision to motor vehicle emission budgets.
* * * * * * *

3. In § 52.776, revise paragraph (v)(4) to read as follows:

§ 52.776 Control strategy: Particulate atter.

* * * * *

(v) * * *

(4) Approval—On February 1, 2013, Indiana submitted a request to revise the motor vehicle emission budgets (budgets) in the 1997 annual PM2.5 maintenance plan for the Lake and Porter County, Indiana maintenance area. The budgets are being revised with budgets developed with the MOVES2010a model. The 2015 motor vehicle emissions budgets for Lake and Porter County, Indiana are 347.30 tpy PM2.5 and 10,486.08 tpy NOX. The 2025 motor vehicle emissions budgets for the Lake and Porter County area are 188.73 tpy PM2.5 and 5,472.34 tpy for NOX.

* * * * *

4. In § 52.777, paragraph (pp) is amended by redesignating the existing text as paragraph (pp)(1) and by adding paragraph (pp)(2) to read as follows:

§ 52.777 Control Strategy: photochemical oxidants. (hydrocarbons).

* * * * *

(pp)(1) * * *

(2) Approval—On February 1, 2013, Indiana submitted a request to revise the motor vehicle emission budgets (budgets) in the 1997 8-hour ozone maintenance plan for the Lake and Porter County, Indiana maintenance area. The budgets are being revised with budgets developed with the MOVES2010a model. The 2010 motor vehicle emissions budgets for Lake and Porter County, Indiana are 13.99 tpd VOC and 47.26 tpd NOX. The 2020 motor vehicle emissions budgets for the Lake and Porter County area are 5.99 tpd VOC and 16.69 tpd for NOX.

* * * * *

[FR Doc. 2013-11456 Filed 5-14-13; 8:45 am]

BILLING CODE 6560-50-P